DEPARTMENT OF LABOR

Employment and Training Administration

Investigations Regarding Certifications, of Eligibility To Apply for Worker Adjustment Assistance, and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 10, 2006.

Interested persons are invited to submit written comments regarding the subject matter of the investigations to the Director, Division of Trade Adjustment Assistance, at the address shown below, not later than August 10, 2006.

The petitions filed in this case are available for inspection at the Office of the Director, Division of Trade Adjustment Assistance, Employment and Training Administration, U.S. Department of Labor, Room C-5311, 200 Constitution Avenue, NW., Washington, DC 20210.

Signed at Washington, DC, this 20th day of July 2006.
Erica R. Cantor,
Director, Division of Trade Adjustment Assistance.

Appendix
[TAA petitions instituted between 7/10/06 and 7/14/06]
TA-W | Subject firm (petitioners) | Location | Date of institution | Date of petition
59683 | Morse Automotive Corp. (State) | Arkadelphia, AR | 07/10/06 | 07/07/06
59684 | Whirlpool Corp. (State) | Fort Smith, AR | 07/10/06 | 07/07/06
59685 | Laidlaw Corporation (Comp) | Metropolis, IL | 07/10/06 | 07/07/06
59686 | Maxtor Corp. (Comp) | Shrewsbury, MA | 07/10/06 | 07/07/06
59687 | Connecticut General Life Insurance Co. (Wkrs) | Philadelphia, PA | 07/10/06 | 05/11/06
59688 | Pace Industries Inc. (Comp) | Harrison, AR | 07/12/06 | 07/11/06
59689 | Alliance Group Technologies Co. Kokkomo, Inc. (Comp) | Peru, IN | 07/12/06 | 07/10/06
59690 | Thomson Micron, LLC (State) | Ronkonkoma, NY | 07/12/06 | 07/10/06
59691 | Russell Corporation (Comp) | Brundidge, AL | 07/12/06 | 07/07/06
59692 | Hooker Furniture Corp. (Comp) | Roanoke, VA | 07/12/06 | 07/10/06
59693 | Bowne (Wkrs) | Cleveland, OH | 07/12/06 | 07/10/06
59694 | Telect, Inc. (Comp) | Liberty Lake, WA | 07/12/06 | 07/10/06
59695 | Newell Rubbermaid (Comp) | Centerville, IA | 07/12/06 | 06/29/06
59696 | Metrobility Optical Systems (Wkrs) | Merrimack, NH | 07/12/06 | 07/10/06
59697 | Scharf and Breit, Inc. (Comp) | Franklin Sq., NY | 07/12/06 | 07/10/06
59698 | American Fast Print Limited (Comp) | Greenville, SC | 07/12/06 | 07/11/06
59699 | Excell Data Corporation (State) | Bellevue, WA | 07/12/06 | 07/10/06
59700 | RMG Foundry LLC (USW) | Mishawaka, IN | 07/12/06 | 07/10/06
59701 | Pilgrim Home and Hearth, LLC (Comp) | Fairfield, CA | 07/12/06 | 07/11/06
59702 | Automatic Products Int'l., LTD (State) | St. Paul, MN | 07/12/06 | 07/11/06
59703 | Demers Leather Sales Inc. (Comp) | Lewiston, ME | 07/12/06 | 07/11/06
59704 | South Park Pleating, Inc. (Wkrs) | Oakland, CA | 07/12/06 | 07/11/06
59705 | Computer Sciences Corporation (Wkrs) | Sterling, VA | 07/13/06 | 06/27/06
59706 | Eaton Filtration LLC (Comp) | Elizabeth, NJ | 07/13/06 | 07/12/06
59707 | Welch Allyn, Inc. (Comp) | San Diego, CA | 07/13/06 | 07/11/06
59708 | Mar Bax Shirt Company Inc. (State) | Gassville, AR | 07/13/06 | 07/12/06
59709 | Stimson Lumber Company (Wkrs) | St. Helens, OR | 07/13/06 | 07/11/06
59710 | Oxbow Machine Products (Wkrs) | Livonia, MI | 07/13/06 | 06/20/06
59711 | KPMG (State) | Charlotte, NC | 07/13/06 | 07/12/06
59712 | American Sunroof Company (UAW) | Lansing, MI | 07/13/06 | 06/23/06
59713 | State Farm Insurance (Wkrs) | Parsippany, NJ | 07/13/06 | 06/14/06
59714 | Jakel Inc. (Wkrs) | Murray, KY | 07/13/06 | 06/26/06
59715 | Salisbury Manufacturing Corp. (Comp) | Salisbury, NC | 07/13/06 | 06/28/06
59716 | Pinnacle Frames and Accents, Inc. (State) | Piggott, AR | 07/13/06 | 07/13/06
59717 | Kent Sporting Goods (State) | Madison, GA | 07/13/06 | 07/12/06
59718 | Monroe Staffing Services, LLC (State) | Wallingford, CT | 07/14/06 | 07/13/06
59719 | Eaton Corporation (Comp) | Hastings, NE | 07/14/06 | 07/11/06
59720 | MacDermid, Inc. (State) | Waterbury, CT | 07/14/06 | 07/13/06
59721 | Mercury Marine (IAMAW) | Fond du Lac, WI | 07/14/06 | 07/13/06
59722 | Joan Fabrics Corporation (Comp) | Lowell, MA | 07/14/06 | 07/13/06
59723 | C and D Technologies (Comp) | Huguenot, NY | 07/14/06 | 07/13/06
59724 | Centris Information Service (Comp) | Longview, TX | 07/14/06 | 07/06/06
59725 | Agilent Technologies (Wkrs) | Wilmington, DE | 07/14/06 | 07/13/06

[FR Doc. E6-12185 Filed 7-28-06; 8:45 am]

BILLING CODE 4510-30-P